DEPARTMENT OF HEALTH AND HUMAN SERVICES

Centers for Disease Control and Prevention

Task Force on Community Preventive Services

In accordance with section 10(a)(2) of the Federal Advisory Committee Act (Pub. L. 92-463), the Centers for Disease Control and Prevention (CDC) announces the following meeting:

Name: Task Force on Community Preventive Services.

Times and Dates: 8 a.m.-6 p.m. EST, June 17, 2009; 8 a.m.-1 p.m. EST, June 18, 2009.

Place: Centers for Disease Control and Prevention, 2500 Century Parkway, Room 1200/1201, Atlanta, Georgia 30345.

Status: Open to the public, limited only by the space available.

Purpose: The mission of the Task Force is to develop and publish the Guide to Community Preventive Services (Community Guide), which consists of systematic reviews of the best available scientific evidence and associated recommendations regarding what works in the delivery of essential public health services.

Topics include:

—Interventions to increase vaccination coverage in children, adolescents, and adults: An Update “of” the vaccination requirements review

—Using Population Levels of Alcohol Consumption as an Indicator of Excessive Alcohol Consumption and Related Harms

—Group-based Interventions to Prevent Adolescent Pregnancy, HIV, Other Sexually Transmitted Infections: A Systematic Review and Meta-analyses

—Update on the Community Guide Web site

—VPD Updates: School-based Vaccination Programs

—Mass Media Campaigns to Increase Physical Activity

—Technology-based Strategies to Prevent and/or Control Obesity: Technology-based Multi-component Counseling

Agenda items are subject to change as priorities dictate.

Persons interested in reserving a space for this meeting should call Charmen Crawford at 404-498-2498.

Contact person for additional information: Charmen Crawford, Coordinating Center for Health Information and Services, National Center for Health Marketing, Office of the Director, 1600 Clifton Road, M/S E-69, Atlanta, GA 30329, phone: 404-498-2498.

Dated: May 6, 2009.
James D. Seligman,
Chief Information Officer, Centers for Disease Control and Prevention.

[FR Doc. E9-11138 Filed 5-12-09; 8:45 am]

BILLING CODE 4163-18-P